DEPARTMENT OF ENERGY

Federal Energy Regulatory Commission

Combined Notice of Filings #1

Take notice that the Commission received the following electric corporate filings:

Docket Numbers: EC23-77-000.

Applicants: SR McNeal, LLC.

Description: Application for Authorization Under Section 203 of the Federal Power Act of SR McNeal, LLC.

Filed Date: 4/18/23.

Accession Number: 20230418-5252.

Comment Date: 5 p.m. ET 5/9/23.

Take notice that the Commission received the following exempt wholesale generator filings:

Docket Numbers: EG23-126-000.

Applicants: Delta's Edge Solar, LLC.

Description: Delta's Edge Solar, LLC submits Notice of Self-Certification of Exempt Wholesale Generator Status.

Filed Date: 4/19/23.

Accession Number: 20230419-5173.

Comment Date: 5 p.m. ET 5/10/23.

Take notice that the Commission received the following electric rate filings:

Docket Numbers: ER19-469-006.

Applicants: PJM Interconnection, L.L.C.

Description: Compliance filing: Amendment to Supplemental Information to Amend Effective Date in ER19-469 to be effective 3/31/2024.

Filed Date: 4/19/23.

Accession Number: 20230419-5140.

Comment Date: 5 p.m. ET 5/10/23.

Docket Numbers: ER23-773-000.

Applicants: Pacific Gas and Electric Company.

Description: Refund Report: CCSF Refund Report for missed WPAs (SA 275) to be effective N/A.

Filed Date: 4/19/23.

Accession Number: 20230419-5000.

Comment Date: 5 p.m. ET 5/10/23.

Docket Numbers: ER23-856-000.

Applicants: Pacific Gas and Electric Company.

Description: Refund Report: CCSF Refund Report for missed Service Agreements (SA 275) to be effectiveN/A.

Filed Date: 4/19/23.

Accession Number: 20230419-5001.

Comment Date: 5 p.m. ET 5/10/23.

Docket Numbers: ER23-1148-001.

Applicants: PJM Interconnection, L.L.C.

Description: Tariff Amendment: Amendment of CSA, SA No. 6684; Queue No. AD2-096 in Docket No. ER23-1148-000 to be effective 12/31/9998.

Filed Date: 4/18/23.

Accession Number: 20230418-5188.

Comment Date: 5 p.m. ET 5/9/23.

Docket Numbers: ER23-1167-001.

Applicants: PJM Interconnection, L.L.C.

Description: Tariff Amendment: Request to Defer Action on SA Filing Amend to ISA, SA No. 6804 Queue No. AC2-090 to be effective 12/31/9998.

Filed Date: 4/19/23.

Accession Number: 20230419-5116.

Comment Date: 5 p.m. ET 5/10/23.

Docket Numbers: ER23-1658-000.

Applicants: PJM Interconnection, L.L.C.

Description: § 205(d) Rate Filing: Revised ISA, SA No. 6770; Queue Nos. AE2-071/AF1-203 to be effective 3/20/2023.

Filed Date: 4/19/23.

Accession Number: 20230419-5033.

Comment Date: 5 p.m. ET 5/10/23.

Docket Numbers: ER23-1659-000.

Applicants: PJM Interconnection, L.L.C.

Description: § 205(d) Rate Filing: Original ISA, Service Agreement No. 6861; Queue No. AE2-072 to be effective 3/20/2023.

Filed Date: 4/19/23.

Accession Number: 20230419-5040.

Comment Date: 5 p.m. ET 5/10/23.

Docket Numbers: ER23-1661-000.

Applicants: Pacific Gas and Electric Company.

Description: § 205(d) Rate Filing: TO Pro Forma Interconnection Agreement to be effective 6/19/2023.

Filed Date: 4/19/23.

Accession Number: 20230419-5088.

Comment Date: 5 p.m. ET 5/10/23.

Docket Numbers: ER23-1662-000.

Applicants: Midcontinent Independent System Operator, Inc.

Description: § 205(d) Rate Filing: 2023-04-19_SA 2930 Termination of ITC-Sugar Creek 1st Rev GIA (J419) to be effective 4/20/2023.

Filed Date: 4/19/23.

Accession Number: 20230419-5120.

Comment Date: 5 p.m. ET 5/10/23.

Docket Numbers: ER23-1663-000.

Applicants: PJM Interconnection, L.L.C.

Description: § 205(d) Rate Filing: Amendment to WMPA, Service Agreement No. 6082; Queue No. AF1-039 to be effective 6/19/2023.

Filed Date: 4/19/23.

Accession Number: 20230419-5123.

Comment Date: 5 p.m. ET 5/10/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 19, 2023.
Debbie-Anne A. Reese,
Deputy Secretary.

[FR Doc. 2023-08683 Filed 4-24-23; 8:45 am]

BILLING CODE 6717-01-P